DEPARTMENT OF TRANSPORTATION

Federal Aviation Administration

14 CFR Part 39

[Docket No. 2000-SW-41-AD; Amendment 39-11898; AD 2000-17-52]

RIN 2120-AA64

Airworthiness Directives; Agusta S.p.A. Model A109E Helicopters

AGENCY: Federal Aviation Administration, DOT.

ACTION: Final rule; request for comments.

SUMMARY: This document publishes in the Federal Register an amendment adopting Airworthiness Directive (AD) 2000-17-52, which was sent previously to all known U.S. owners and operators of Agusta S.p.A. (Agusta) Model A109E helicopters by individual letters. This AD requires, before further flight, visually inspecting any main rotor rotating scissors assembly for correct installation and replacing any unairworthy part with an airworthy part. If the rotating scissors attachment bolt (attachment bolt) is not replaced with a new part at the initial inspection, this AD also requires removing the rotating scissors assembly to inspect the attachment bolt for a crack and replacing any cracked attachment bolt with a new attachment bolt before further flight. This amendment is prompted by two incidents of flight control malfunctions. The actions specified by this AD are intended to prevent failure of the rotating scissors assembly and subsequent loss of control of the helicopter.

DATES: Effective October 10, 2000, to all persons except those persons to whom it was made immediately effective by Emergency AD 2000-17-52, issued on August 23, 2000, which contained the requirements of this amendment.

The incorporation by reference of certain publications listed in the regulations is approved by the Director of the Federal Register as of October 10, 2000.

Comments for inclusion in the Rules Docket must be received on or before November 21, 2000.

ADDRESSES: Submit comments in triplicate to the Federal Aviation Administration (FAA), Office of the Regional Counsel, Southwest Region, Attention: Rules Docket No. 2000-SW-41-AD, 2601 Meacham Blvd., Room 663, Fort Worth, Texas 76137. You may also send comments electronically to the Rules Docket at the following address: 9-asw-adcomments@faa.gov.

The applicable service information may be obtained from Agusta, 21017 Cascina Costa di Samarate (VA) Italy, Via Giovanni Agusta 520, telephone 39 (0331) 229111, fax 39 (0331) 229605-222595. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: On August 23, 2000 the FAA issued Emergency AD 2000-17-52 for Agusta Model A109E helicopters, which requires before further flight, visually inspecting any rotating scissors assembly for correct installation and replacing any unairworthy part with an airworthy part. If the attachment bolt is not replaced with a new part at the initial inspection, the AD also requires removing the rotating scissors assembly to inspect the attachment bolt for a crack and replacing any cracked attachment bolt with a new attachment bolt before further flight. That action was prompted by two incidents of flight control malfunctions. Investigations of each incident revealed incorrect installation of the main rotor rotating scissors assembly resulted in fatigue failure of the attachment bolt. This condition, if not corrected, could result in failure of the rotating scissors assembly and subsequent loss of control of the helicopter.

The FAA has reviewed Agusta Alert Bollettino Tecnico No. 109EP-12, dated July 24, 2000 (ABT), which describes procedures for visually inspecting, before further flight, the rotating scissors assembly, part number (P/N) 109-0134-09, for correct installation. This ABT also specifies, within the next 50 hours time-in-service (TIS), removing the rotating scissors assembly to inspect the attachment bolt for a crack or damage unless the attachment bolt was replaced with a new attachment bolt as a result of the initial inspection. The ABT specifies replacing any unairworthy part with an airworthy part.

Since the unsafe condition described is likely to exist or develop on other Agusta Model A109E helicopters of the same type design, the FAA issued Emergency AD 2000-17-52 to prevent failure of the rotating scissors assembly and subsequent loss of control of the helicopter. The AD requires, before further flight, visually inspecting any rotating scissors assembly, P/N 109-0134-09, for correct installation and replacing any unairworthy part with an airworthy part. If the attachment bolt is not replaced with a new attachment bolt at the initial inspection, this AD also requires, within 50 hours TIS, removing the rotating scissors assembly to inspect the attachment bolt for a crack and replacing any cracked attachment bolt with a new attachment bolt before further flight. A “new” attachment bold is one with zero hours TIS. The actions must be accomplished in accordance with the ABT described previously. The short compliance time involved is required because the previously described critical unsafe condition can adversely affect the controllability of the helicopter. Therefore, the actions discussed previously are required before further flight, and this AD must be issued immediately. However, the FAA has made one nonsubstantive change to a word that was incorrectly spelled in the emergency AD. The word “Tecnico” is misspelled in the Emergency AD and that correction is made in this AD. The FAA has determined that this change will neither increase the economic burden on any operator nor increase the scope of the AD.

Since it was found that immediate corrective action was required, notice and opportunity for prior public comment thereon were impracticable and contrary to the public interest, and good cause existed to make the AD effective immediately by individual letters issued on August 23, 2000 to all known U.S. owners and operators of Agusta Model A109E helicopters. These conditions still exist, and the AD is hereby published in the Federal Register as an amendment to section 39.13 of the Federal Aviation Regulations (14 CFR 39.13) to make it effective to all persons.

The FAA estimates that 20 helicopters of U.S. registry will be affected by this AD. It will take approximately 1.5 work hours per helicopter to inspect the rotating scissors assembly and 1.5 work hours to inspect the attachment bolt for a crack. If necessary, it will take approximately 15 work hours per helicopter to replace any unairworthy part on the rotating scissors assembly or the attachment bolt. The average labor rate is $60 per work hour. The manufacturer has stated, in writing, that replacement parts will be provided at no cost. Based on these figures, the total cost impact of the AD on U.S. operators is estimated to be $21,600, assuming 2 inspections and 1 replacement per helicopter.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2000-SW-41-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-17-52 Agusta S.p.A.: Amendment 39-11898. Docket No. 2000-SW-41-AD.

Applicability: Model A109E helicopters, up to and including serial number (S/N) 11082, with main rotor rotating scissors assembly, part number (P/N) 109-0134-09, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent failure of the rotating scissors assembly and subsequent loss of control of the helicopter, accomplish the following:

(a) Before further flight, visually inspect the rotating scissors assembly for correct installation in accordance with Part I of Agusta Bollettino Tecnico No. 109EP-12, dated July 24, 2000 (ABT). Replace any unairworthy part with an airworthy part before further flight.

(b) If a new rotating scissors attachment bolt (attachment bolt), P/N NAS6606D28 or NAS1306-28D, was not installed during compliance with paragraph (a) of this AD, within the next 50 hours time-in-service (TIS), in accordance with Part II of the ABT, visually inspect the attachment bolt, P/N NAS6606D28 or NAS1306-28D, for a crack. Replace any cracked attachment bolt with a new attachment bolt before further flight.

(c) An alternative method of compliance or adjustment of the compliance time that provides an acceptable level of safety may be used if approved by the Manager, Regulations Group, Rotorcraft Directorate, FAA. Operators shall submit their requests through an FAA, Principal Maintenance Inspector, who may concur or comment and then send it to the Manager, Regulations Group.

Note 2: Information concerning the existence of approved alternative methods of compliance with this AD, if any, may be obtained from the Regulations Group.

(d) Special flight permits may be issued in accordance with 14 CFR 21.197 and 21.199 to operate the helicopter to a location where the requirements paragraph (b) of this AD can be accomplished.

(e) The inspections shall be done in accordance with Parts I and II of Agusta Bollettino Tecnico No. 109EP-12, dated July 24, 2000. This incorporation by reference was approved by the Director of the Federal Register in accordance with 5 U.S.C. 552(a) and 1 CFR part 51. Copies may be obtained from Agusta, 21017 Cascina Costa di Samarate (VA) Italy, Via Giovanni Agusta 520, telephone 39 (0331) 229111, fax 39 (0331) 229605-222595. Copies may be inspected at the FAA, Office of the Regional Counsel, Southwest Region, 2601 Meacham Blvd., Room 663, Fort Worth, Texas; or at the Office of the Federal Register, 800 North Capitol Street, NW., suite 700, Washington, DC.

(f) This amendment becomes effective on October 10, 2000, to all persons except those persons to whom it was made immediately effective by Emergency AD 2000-17-52, issued August 23, 2000, which contained the requirements of this amendment.

Note 3: The subject of this AD is addressed in Registro Aeronautico Italiano (Italy) AD 2000-371, dated July 24, 2000.

Issued in Fort Worth, Texas, on September 13, 2000.
Eric Bries,
Acting Manager, Rotorcraft Directorate, Aircraft Certification Service.

[FR Doc. 00-24109 Filed 9-21-00; 8:45 am]

BILLING CODE 4910-13-P